ENVIRONMENTAL PROTECTION AGENCY

[FRL-7401-1]

Agency Information Collection Activities: Continuing Collection; Comment Request; Information Collection Activities Associated With EPA's Energy Star Buildings Program

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB) for review and approval: Information Collection Activities Associated with EPA's Energy Star Buildings Program, EPA ICR Number 1772, OMB Number 2060-0347. OMB approval expires on April 30, 2003. Before submitting the ICR to OMB, EPA is soliciting comments on specific aspects of the information collection activities as described below.

DATES: Comments must be submitted on or before December 30, 2002.

ADDRESSES: Climate Protection Partnerships Division, U.S. EPA (MC-6202J), 1200 Pennsylvania Ave., NW, Washington, DC 20460. ICR may be obtained electronically by contacting Mary Susan Bailey via e-mail at bailey.marysusan@epa.gov.

FOR FURTHER INFORMATION CONTACT: Mary Susan Bailey, phone: 202-564-0189, fax: 202-565-2083, bailey.marysusan@epa.gov.

SUPPLEMENTARY INFORMATION: Title: Information Collection Activities Associated with EPA's Energy Star Buildings Program (OMB Number 2060-0347, EPA ICR Number 1772), expiring on April 30, 2003.

Abstract: Energy Star is a voluntary program aimed at preventing pollution rather than controlling it after its creation. The program focuses on reducing utility-generated emissions by reducing the demand for energy. EPA introduced Energy Star in 1991 by launching the Green Lights program to encourage corporations, state and local governments, colleges and universities, and other organizations to adopt energy efficient lighting as a profitable means of preventing pollution and improving lighting quality. Since then, EPA has expanded Energy Star to encompass organization-wide energy efficiency, such as building technology upgrades (e.g., HVAC systems), product purchasing initiatives, and employee training. At the same time, EPA has streamlined the reporting requirements of Energy Star and focused on providing incentives for improvements (e.g., Energy Star Awards Program). EPA also makes tools and other resources available over the web to help the public overcome the barriers to evaluating their energy efficiency and investing in improvements.

To join Energy Star, organizations are asked to complete a Partnership Letter or Agreement that establishes their commitment to energy efficiency. Partners agree to undertake efforts such as measuring, tracking, and benchmarking their organization's energy performance by using tools such as those offered by Energy Star; developing and implementing a plan to improve energy performance in their facilities and operations by adopting a strategy provided by Energy Star; and educating staff and the public about their partnership with Energy Star, and highlighting achievements with the Energy Star Label, where available.

Partners also may be asked to periodically submit information to EPA as needed to assist in program implementation. For example, EPA compiles the Energy Service and Product Provider Directory to provide the public with easy access to energy efficiency products and services. Businesses wishing to appear in this directory are asked to submit a completed form that details their products and services.

Partnership in Energy Star is voluntary and can be terminated by partners or EPA at any time. EPA does not expect organizations to join the program unless they expect participation to be cost-effective and otherwise beneficial for them.

In addition, partners and any other interested party can help EPA promote energy-efficient technologies by evaluating the efficiency of their buildings by benchmarking individual buildings by using EPA's on-line benchmarking tool, Portfolio Manager, and apply for Energy Star Labels if their performance ranks in top 25 percent. If they can demonstrate that an individual building meets the Energy Star criteria, they will receive an Energy Star plaque that they can display on the building. EPA does not expect that organizations will deem any information collected under Energy Star to be confidential.

An agency may not conduct or sponsor, and a person is not required to respond to, a collection of information unless it displays a currently valid OMB control number. The OMB control numbers for EPA's regulations are listed in 40 CFR Part 9 and 48 CFR Chapter 15.

The EPA would like to solicit comments to:

(i) Evaluate whether the collection of information is necessary for the proper performance of the functions of the agency, including whether the information will have practical utility;

(ii) Evaluate the accuracy of the agency's estimate of the burden of the collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public burden for this collection of information will vary depending on the type of participant, the specific collection activity, and other factors. The annual burden for joining Energy Star and conducting related activities is estimated to range from about 2 to 8 hours per respondent. This includes time for preparing and submitting the Partnership Letter or Agreement and other information as requested. The burden for applying for an Energy Star Label is estimated to range from about 5.5 to 10.5 hours per respondent. This includes time for reading the instructions of the benchmarking tool if needed, gathering and entering information on building characteristics and energy use into the tool, printing a score report, and preparing/submitting the Energy Star Label application materials to EPA. The burden for applying for an Energy Star Award is estimated to range from 4 to 26.5 hours per respondent. This includes time for preparing and submitting the awards application materials to EPA.

The total annual operation and maintenance costs to respondents collectively is estimated to be $1.54 million. This includes the cost to organizations applying for an Energy Star Label to contract a Professional Engineer to conduct a facility inspection and notarize the score report. It also includes postage costs for various submittals from the public to EPA. There is no capital cost to respondents.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Participants in Energy Star.

Estimated Annual Number of Respondents: 5,000.

Frequency of Response: One-time, annually, and/or periodically, depending on type of respondent and collection.

Estimated Total Annual Hour Burden: 83,343 hours.

Estimated Total Annualized Capital, Operation/Maintenance Cost Burden: $1,540,483.

Dated: October 21, 2002.
Kathleen Hogan,
Director, Climate Protection Partnerships Division.

[FR Doc. 02-27497 Filed 10-28-02; 8:45 am]

BILLING CODE 6560-50-P